DEPARTMENT OF TRANSPORTATION

Federal Highway Administration

Environmental Impact Statement: Los Angeles County, CA

AGENCY: Federal Highway Administration (FHWA), DOT.

ACTION: Notice of Intent.

SUMMARY: The FHWA is issuing this notice to advise the public that an Environmental Impact Statement (EIS) will be prepared for the proposed Interstate 5 (I-5) High Occupancy Vehicle (HOV)/Truck Lanes project in the City of Santa Clarita and the County of Los Angeles, California, in accordance with the National Environmental Policy Act (NEPA) of 1969.

FOR FURTHER INFORMATION CONTACT: Steve Healow, FHWA California Division, 650 Capitol Mall, #4-100, Sacramento, CA 95814, telephone: 916-498-5849, or Carlos Montez, California Department of Transportation, 100 South Main Street, Los Angeles, CA 90012, telephone: 213-897-9116.

SUPPLEMENTARY INFORMATION: The FHWA, in cooperation with the California Department of Transportation (Caltrans), will prepare an EIS on a proposal to widen existing I-5 to include truck climbing lanes and HOV lanes. This I-5 project extends from State Route 14 (SR-14) on the south to Parker Road on the north, a distance of approximately 13.6 miles. The proposed improvements include extending the existing HOV lanes on I-5 from SR-14 to Parker Road (approximately 13 miles) and adding truck climbing lanes between SR-14 interchange and Calgrove Boulevard (northbound) and Pico Canyon Road/Lyons Avenue (southbound), a distance of three to four miles. Analysis supporting the EIS will determine the type of facility necessary to meet the existing and future transportation needs in the corridor. Due to traffic volumes, truck traffic, and substantial planned development, the capacity of the existing corridor will be exceeded. The proposed EIS will evaluate a constrained alternative, which would provide one HOV lane in each direction from SR-14 to Parker Road, and truck climbing lanes in each direction from SR-14 to Calgrove Boulevard (NB) and Pico Canyon Road/Lyons Road (SB). This constrained alternative would provide standard lane widths. The EIS would also evaluate a standard alternative, which includes the same HOV and truck lanes, as described above, and standard lane widths and full shoulders. A no build alternative will also be evaluated.

The public information program and project development team (PDT) meetings will continue throughout the environmental and design phases for the proposed project. The Draft EIS will be available for public and agency review and comment. A public hearing will be held to discuss the alternatives and the potential impacts of the proposed action. Public notice will be given for the time and place of the public hearing. To ensure that the full range of issues related to this proposed action is addressed and all significant concerns are identified, comments and suggestions are invited from all interested parties. Comments or questions about this proposed action and the EIS should be directed to FHWA and Caltrans at the addresses indicated above.

(Catalog of Federal Domestic Assistance Program Number 20.205, Highway Research, Planning, and Construction. The regulations implementing Executive Order 12372 regarding intergovernmental consultation on Federal programs and activities apply to this program.)

Issued on: May 3, 2007.
Maiser Khaled,
Director, Project Development & Environment, California Division, Federal Highway Administration.

[FR Doc. E7-8937 Filed 5-9-07; 8:45 am]

BILLING CODE 4910-22-P